DEPARTMENT OF AGRICULTURE

Forest Service

Directive Publication Notice

AGENCY: Forest Service, USDA.

ACTION: Notice.

SUMMARY: The USDA Forest Service provides direction to employees through issuances in its Directive System, comprised of the Forest Service Manual and Forest Service Handbooks. The Agency must provide notice of and opportunity for the public to comment on any directives that formulate standards, criteria, or guidelines applicable to Forest Service programs. Once per quarter, the Agency provides advance notice of proposed and interim directives that will be made available for public comment during the next 3 months and notice of recently issued final directives.

DATES: This notice identifies proposed and interim directives that will be published for public comment between June 1, 2021 and September 13, 2021 and final directives that were issued since October 1, 2020.

ADDRESSES: Questions or comments may be provided by email to SM.FS.woDirectives@usda.gov or in writing to 201 14th Street SW, Washington, DC 20250, Attn: Directives and Regulations staff, Mail 1132.

FOR FURTHER INFORMATION CONTACT: Ann Goode at 202-740-6286 or ann.goode@usda.gov. Individuals who use telecommunication devices for the hearing-impaired may call the Federal Relay Service at 800-877-8339 between 8:00 a.m. and 8:00 p.m., Eastern Daylight Time, Monday through Friday. You may sign up to receive email alerts at https://www.fs.usda.gov/about-agency/regulations-policies.

SUPPLEMENTARY INFORMATION: Consistent with 16 U.S.C. 1612(a) and 36 CFR part 216, “Public Notice and Comment for Standards, Criteria and Guidance Applicable to Forest Service Programs,” the Forest Service publishes for public notice and comment Agency directives that formulate standards, criteria, or guidelines applicable to Forest Service programs. Agency procedures for providing public notice and opportunity to comment are specified in Forest Service Handbook 1109.12, Chapter 30, Providing Public Notice and Opportunity to Comment on Directives.

The following proposed directives are planned for publication for public comment during the next 3 months:

1. Forest Service Manual 1820, Public Lands Corps and Resource Assistants Program.

2. Forest Service Handbook 5509.11, Title Claims, Sales, and Grants Handbook, Chapter 20, Sales.

3. Region 10 Supplement to Forest Service Manual 2720, Special Uses; Management of Point-To-Point Transport Under Special Use Authorization to National Forest System Lands within the Visitor Center Subunit of Mendenhall Glacier Recreation Area.

The primary method of public outreach for each of these proposed directives is publication on the Forest Service website (https://www.fs.usda.gov/about-agency/regulations-policies), publication in the Federal Register, use of the GovDelivery email service, and other Agency communications resources, which may include a press release, blog post, or social media resources.

The following proposed or interim directives have been published for public comment but not yet finalized:

1. Proposed Forest Service Manual 2200, Rangeland Management, Chapters Zero Code; 2210, Rangeland Management Planning; 2220, Management of Rangelands (Reserved); 2230, Grazing Permit System; 2240, Rangeland Improvements; 2250, Rangeland Management Cooperation; and 2270, Information Management and Reports; Forest Service Handbook 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. Proposed Forest Service Handbook 1109.12, Forest Service Directives, Chapter 30, Providing Public Notice and Opportunity to Comment on Directives.

3. Interim Forest Service Manual 2719, Special Use Authorizations Involving Storage and Use of Explosives and Magazine Security, and FSH 2709.11, Special Uses Handbook, Chapter 50, Standard Forms and Supplemental Clauses.

4. Forest Service Handbook 2309.13, Recreation Site Handbook, Chapter 50, Forest Service Operation and Maintenance of Developed Recreation Sites.

5. Forest Service Handbook 5309.11, Law Enforcement Handbook, Chapter 30, Violations, Section 34, Closure of National Forest System Lands to Hunting, Fishing, or Recreational Shooting.

6. Forest Service Manual 7700, Travel Management, Chapters Zero and 10, Travel Planning.

7. Forest Service Manual 2400, Timber Management, Chapters Zero, 2430, Commercial Timber Sales; 2440, Designating, Cruising, Scaling, and Accountability; 2450, Timber Sale Contract Administration; and 2460, Uses of Timber Other Than Commercial Timber Sales; Forest Service Handbook 2409.15, Timber Sale Administration, Chapters Zero, 10, Fundamentals of Timber Sale Contracting; 30, Change in Status of Contracts; 50, Specified Transportation Facilities; and 70, Contract Claims and Disputes; Forest Service Handbook 2409.18a, Timber Sale Debarment and Suspension Procedures, Chapters Zero, 10, Non-procurement Debarment and Suspension; and 20, Debarment and Export Violations.

8. Forest Service Manual 3800, Landscape Scale Restoration Program.

9. Forest Service Manual 2700, Special Uses Management, Chapter 40, Vegetation Management Pilot Projects, and FSH 2709.11, Special Uses Handbook, Chapter 50, Standard Forms and Supplemental Clauses.

10. Forest Service Handbook 2709.11, Special Uses Handbook, Chapter 80, Operating Plans and Agreements for Powerline Facilities.

11. Forest Service Manual 2400, Timber Management, Chapter 2420, Timber Appraisal; Forest Service Handbook 2409.19, Renewable Resources Handbook, Chapters 10, Knutson-Vandenberg Sale Area Program Management Handbook; 20, Knutson-Vandenberg Forest and Regional Program Management; 60, Stewardship Contracting; and 80, Good Neighbor Authority.

The following final directives were issued in the Directive System since October 1, 2020:

1. Forest Service Manual 2700, Special Uses Management, Chapter 2750, Leasing Forest Service Administrative Sites, was issued October 13, 2020. See https://www.fs.fed.us/im/directives/fsm/2700/FSM%202750-2020_Leasing%20Forest%20Service%20Administrative%20Sites.docx.

2. Forest Service Handbook 2709.11, Special Uses Handbook, Chapter 90, Communications Site Management, was issued October 13, 2020. See https://www.fs.fed.us/im/directives/fsh/2709.11/wo_2709.11_90_Amend-2020-6_final_1062020_mmzCorrected.docx.

Dated: May 11, 2021.
Amelia Steed,
Acting Assistant Director, Strategic Planning and Budget Accountability.

[FR Doc. 2021-10202 Filed 5-13-21; 8:45 am]

BILLING CODE 3411-15-P